ENVIRONMENTAL PROTECTION AGENCY

[ER-FRL-9034-3]

Environmental Impact Statements; Notice of Availability

Responsible Agency: Office of Federal Activities, General Information (202) 564-7146 or http://www.epa.gov/nepa.

Weekly receipt of Environmental Impact Statements (EISs)

Filed 07/10/2017 Through 07/14/2017

Pursuant to 40 CFR 1506.9

Notice

Section 309(a) of the Clean Air Act requires that EPA make public its comments on EISs issued by other Federal agencies. EPA's comment letters on EISs are available at: http://www.epa.gov/compliance/nepa/eisdata.html.

EIS No. 20170130, Final, FHWA, UT, West Davis Corridor, Review Period Ends: 08/31/2017, Contact: Paul Ziman 801-955-3525.

EIS No. 20170131, Final, DOC, PROG, Nationwide Public Safety Broadband Network for the Western United States, Review Period Ends: 08/21/2017, Contact: Amanda Goebel Pereira 571-665-6072.

EIS No. 20170132, Final, TVA, TN, Multiple Reservoir Land Management Plans, Review Period Ends: 08/21/2017, Contact: Matthew Higdon 865-632-8051.

EIS No. 20170133, Final, Caltrans, CA, Northwest SR138 Corridor, Review Period Ends: 08/21/2017, Contact: Susan Tse 213-897-1621.

Amended Notices

EIS No. 20170032, Draft, USFS, OR, Ringo Project, Comment Period Ends: 09/05/2017, Contact: Lillian Cross 541-433-3200, Revision to FR Notice Published 03/17/2017; Reopening Comment to End 09/05/2017.

Dated: July 18, 2017.
Dawn Roberts,
Management Analyst, NEPA Compliance Division, Office of Federal Activities.

[FR Doc. 2017-15384 Filed 7-20-17; 8:45 am]

BILLING CODE 6560-50-P